DEPARTMENT OF HOUSING AND URBAN DEVELOPMENT

[Docket No. FR-5752-N-50]

30-Day Notice of Proposed Information Collection: Public Housing Annual Contributions Contract and Inventory Removal Application

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: July 11, 2014.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A.

The Federal Register notice that solicited public comment on the information collection for a period of 60 days was published on February 18, 2014.

A. Overview of Information Collection

Title of Information Collection: Public Housing Annual Contributions Contract and Inventory Removal Application.

OMB Approval Number: 2577-0075.

Type of Request: Revision on a currently approved collection.

Form Number: HUD-51999; HUD-52190A; HUD-52190B; HUD-52840-A; HUD-53012A, HUD-53012B, HUD 52860-A, HUD 52860-B, HUD 52860-C; HUD 52860-D; HUD 52860-E, and HUD 52860-F.

Description of the need for the information and proposed use: This information collection consolidates all ACC-related information collections involving the use of funding and inventory changes. Section 5 of the United States Housing Act of 1937 (Pub. L. 75-412, 50 Stat. 888) permits the Secretary of HUD to make annual contributions to public housing agencies (PHAs) to achieve and maintain the lower income character of public housing projects. The Secretary is required to embody the provisions for such annual contributions in a contract guaranteeing payment. Applicable regulations are 24 CFR part 941 for public housing development and 24 CFR part 969 for continued operation of low-income housing after completion of debt service. This collection also covers Public Housing Authority (PHA) submissions under Sections 18, 22, 33 and 32 that involve the authority of the HUD Secretary to approve PHA requests to remove certain public housing property from their inventories through demolition, disposition, voluntary conversion, required conversion or homeownership conveyance.

The functions and activities for Public Housing Annual Contributions Contractor, under OMB control number 2577-0270, has been combined with the Public Housing Inventory Removal Application, currently approved collection 2577-0075. The Office of Management and Budget (OMB) approved discontinuation of OMB Control Number, 2577-0270.

Respondents: Business or other for-profit, State, Local Government and public housing authorities.

ACC Provision | Number of respondents | Frequency | Total responses | Hours per response | Total hours | Cost per hour | Total cost
1. Execute new ACC via HUD form 53012-A and B | 42 | 1 | 42 | 5 | 205 | 30 | $6150
2. Terminate or amend ACC | 78 | 1 | 78 | 5 | 390 | 30 | 11700
3. Request HUD approval of non-dwelling leases or agreements | 114 | 1 | 114 | 6 | 735 | 30 | 22050
4. HUD approval for easement uses | 48 | 1 | 48 | 7 | 3524 | 30 | 10560
5. Submit General Depository Agreement (GDA) via form HUD 51999 | 265 | 1 | 265 | 2 | 651 | 30 | 19530
6. Request to terminate GDA | 107 | 1 | 107 | 2 | 202 | 30 | 6780
7. ACC revisions to change year end dates | 23 | 1 | 23 | 11 | 257 | 30 | 7710
8. ACC to consolidate PHAS | 18 | 1 | 18 | 12 | 217 | 30 | 6510
9. ACC revision to transfer programs | 43 | 1 | 43 | 9 | 391 | 30 | 11730
10. Request review of Conflict of interest | 102 | 1 | 102 | 9 | 951 | 30 | 27520
11. Request pooling of insurance | 5 | 1 | 5 | 19 | 97 | 30 | 2910
12. Request for new Declaration of Trust (DOT) via form HUD 52190-A and B | 142 | 1 | 142 | 19 | 1249 | 30 | 2910
13. Request DOT amendment or termination | 221 | 1 | 221 | 9 | 2031 | 30 | 41370
14. Amend ACC for Capital Fund Finance via form HUD 52840-A | 73 | 1 | 73 | 9 | 788 | 30 | 60930
15. Amend ACC for Mixed Finance Supplementary Legal Document | 94 | 1 | 94 | 21 | 1981 | 50 | 96,090
16. Amend ACC for Capital Grant | 2820 | 1 | 2820 | 4 | 11,070 | 30 | 391,860
17. Amend ACC for Emergency Capital Fund Grant | 48 | 1 | 38 | 3 | 100 | 30 | 3990
18. Amend ACC Capital Fund for Safety and Security | 75 | 1 | 50 | 2 | 96 | 30 | 3008
19. Amend ACC to Recapture Capital Fund Grant | 123 | 1 | 123 | 8 | 643 | 30 | 17790
20. Amend ACC for Energy Performance Contract | 38 | 1 | 38 | 5 | 192 | 30 | 5760
21. Amend ACC for Community Facilities Grants | 15 | 1 | 13 | 90 days | 28 | 30 | 840
22. Demo Disposition Approvals and Removing Units form ACC-HUD Form 52860 | 162 | 1 | 162 | 10 | 1696 | 30 | 50,880
23. Supplementary Document: Unique Legal Document used by HQ Staff Mixed-Finance Amendment to the Annual Contributions Contract | 60 | 1 | 60 | 24 | 1440 | 50 | 72,000
Totals | 3,280 | 1 | 4,679 | 8.8 | 28,812 | 30 | 880,578

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: June 4, 2014.
Colette Pollard,
Department Reports Management Officer, Office of the Chief Information Officer.

[FR Doc. 2014-13600 Filed 6-10-14; 8:45 am]

BILLING CODE 4210-67-P